DEPARTMENT OF ENERGY

Federal Energy Regulatory Commission

[Project No. P-2725-076]

Oglethorpe Power Corporation; Notice of Scoping Period Requesting Comments on Environmental Issues for the Proposed Rocky Mountain Pumped Storage Hydroelectric Project

Take notice that the following hydroelectric application has been filed with the Commission and is available for public inspection.

a. Type of Application: New Major License.

b. Project No.: 2725-076.

c. Date Filed: December 6, 2024.

d. Applicant: Oglethorpe Power Corporation (OPC).

e. Name of Project: Rocky Mountain Pumped Storage Hydroelectric Project.

f. Location: On Heath Creek, in Floyd County, Georgia.

g. Filed Pursuant to: Federal Power Act, 16 U.S.C. 791(a)-825(r).

h. Applicant Contact: Jeff Swartz, Oglethorpe Power Corporation, Senior Vice President of Plant Operations, 2100 East Exchange Place, Tucker, Georgia 30084; phone at (770) 270-7600; email at Jeff Swartz@opc.com.

i. FERC Contact: David Gandy, Project Coordinator, South Branch, Division of Hydropower Licensing; phone at (202) 502-8560; email at david.gandy@ferc.gov.

j. The staff of the Federal Energy Regulatory Commission (FERC or Commission) will prepare an environmental document that will discuss the environmental effects of relicensing the Rocky Mountain Pumped Storage Hydroelectric Project. The Commission will use this environmental document in its decision-making process to determine whether to issue a new license for the project.

k. This notice announces the opening of the scoping process the Commission will use to gather input from the public and interested agencies regarding the project. This notice is intended to advise all participants as to the potential scope of the National Environmental Policy Act (NEPA) document and to seek additional information pertinent to this analysis. Commission staff does not intend to issue a separate scoping document.

As part of the NEPA review process, the Commission takes into account concerns the public may have about proposals and the environmental effects that could result from its action whenever it considers the issuance of a hydropower license. This gathering of public input is referred to as “scoping.” The main goal of the scoping process is to focus the analysis in the environmental document on the important environmental issues.

l. Scoping Comments: By this notice, the Commission requests written public comments on the scope of issues to address in the environmental document. To ensure that your comments are timely and properly recorded, please submit your comments so that the Commission receives them in Washington, DC on or before 5:00 p.m. Eastern Time on October 20, 2025.

Comments should focus on the potential environmental effects and reasonable alternatives. Your input will help the Commission staff determine what issues they need to evaluate in the environmental document. Commission staff will consider all written comments during the preparation of the environmental document.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Rocky Mountain Pumped Storage Hydroelectric Project (P-2725-076).

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

m. The application is not ready for environmental analysis at this time.

n. The Rocky Mountain Pumped Storage Project consists of the following existing facilities: (1) a 120-foot-high, 12,895-foot-long earth and rockfill upper dam; (2) a 221 acre upper reservoir with 10,650 acre-feet of storage and a normal operating pool elevation of 1,392 feet North American Vertical Datum of 1988 (NAVD88); (3) a 35-foot-diameter, 567-foot-high concrete-lined power shaft; (4) a 35-foot-diameter, 1,935-foot-long concrete lined tunnel with two concrete lined bifurcations; (5) three 19-foot-diameter, 470-foot-long steel lined penstocks; (6) a 348-foot-long, 156-foot-wide, 175-foot-high powerhouse containing three reversible Francis pump-turbines, with a combined installed capacity of 904 megawatts; (7) a 600 acre lower reservoir with 18,800 acre-feet of storage and a maximum elevation of 710.5 ft NAVD88 created by a combination of three dams; (8) a 120-foot-high, 942-foot-long combination earth and rockfill embankment, and a concrete gravity main dam; a 70-foot-high, 1,260-foot-long earth and rockfill structure with an impervious core; and a 10-foot-high, 690-foot-long earthfill structure; (9) three 230 kilovolt, 2.7-mile-long transmission lines; (10) a substation; and (11) appurtenant facilities.

The project also has reserve storage water contained in two auxiliary pools adjacent to the lower reservoir. Pool I's (Antioch Lakes East and West) surface area is 400 acres and is formed by four dams. The pool I dams consist of: (a) a 25-foot-high earthen dam of unspecified length; (b) a 20-foot-high, 775-foot-long earth and rockfill dam; (c) a 50-foot-high, 700-foot-long earth and rockfill dam; and (d) a 50-foot-high, 405-foot-long earth and rockfill dam. Pool II's (Heath Lake) surface area is 200 acres and is formed by a 30-foot-high, 335-foot-long earth and rockfill dam.

Under a new license, OPC proposes to: (1) continue operating the pumped storage project has it has historically, with no changes generation capacity or other project modifications; (2) continue to release a continuous minimum flow of 1.2 cfs from the Lower Reservoir into Heath Creek; (3) implement a study to examine the effects of different minimum flows under summer low-flow operations on dissolved oxygen in Heath Creek downstream of the Main Dam; (4) implement Bald Eagle Management and Invasive Species Management Plans filed with the license application; (5) implement bat habitat protection measures; and (5) implement a Recreation Enhancement Plan for Heath Lake, and Antioch Lakes East and West. OPC also proposes to develop and implement a Historic Properties Management Plan through a Programmatic Agreement.

o. A copy of the application, with details of the proposed project, can be viewed on the Commission's website at https://www.ferc.gov using the “eLibrary” link. Enter the project's docket number excluding the last three digits in the docket number field to access the document (P-2725). For assistance, contact FERC at FERCOnlineSupport@ferc.gov, (866) 208-3676 (toll free), or (202) 502-8659 (TTY).

p. NEPA Process and the Environmental Document: Any environmental document issued by the Commission will discuss effects that could occur as a result of the project's relicensing under the relevant general resource areas, such as:

• geology and soils;

• aquatic resources;

• terrestrial resources;

• threatened and endangered species;

• recreation, land use, and aesthetic resources;

• cultural resources; and

• developmental resources.

Commission staff will also evaluate reasonable alternatives to the proposed project or portions of the project and make recommendations on how to lessen or avoid effects on the various resource areas. Your comments will help Commission staff identify and focus on the issues that might have an effect on the human environment and potentially eliminate others from further discussion in the environmental document.

Following this scoping period, Commission staff will determine whether to prepare an Environmental Assessment (EA) or an Environmental Impact Statement (EIS). The EA or EIS will present Commission staff's independent analysis of the issues. If Commission staff prepares an EA, a Notice of Intent to Prepare an Environmental Assessment will be issued. The EA may be issued for an allotted public comment period. The Commission would consider timely comments on the EA before making its decision regarding the proposed project. If Commission staff prepares an EIS, a Notice of Intent to Prepare an Environmental Impact Statement will be issued. Staff will then prepare a draft EIS which will be issued for public comment. Commission staff will consider all timely comments received during the comment period on the draft EIS and revise the document, as necessary, before issuing a final EIS. Any EA or draft and final EIS will be available in electronic format in the public record through eLibrary. If eSubscribed, you will receive instant email notification when the environmental document is issued (see paragraph (r) of this notice for instructions on using eSubscription).

q. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

r. This notice is being distributed to the Commission's official mailing list for the project and any additional entities on the applicant's distribution list. You can access the Commission's official mailing list for this project at https://ferconline.ferc.gov/MailListLOR.aspx?Type=MailList&ListVar=P-2725. If you want to receive future mailings for the project and are not included on the Commission's official mailing list, or if you wish to be removed from the Commission's official mailing list, please send your request by email to FERCOnlineSupport@ferc.gov. In lieu of an email request, you may submit a paper request. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All written or emailed requests must specify your wish to be added to or removed from the mailing list, and must clearly identify the following on the first page: Rocky Mountain Pumped Storage Hydroelectric Project (P-2725-076).

Additionally, the Commission offers a free service called eSubscription, which makes it easy to stay informed of all issuances and submittals regarding the dockets/projects to which you subscribe. These instant email notifications are the fastest way to receive notification and provide a link to the document files which can reduce the amount of time you spend researching proceedings. Go to https://www.ferc.gov/ferc-online/overview to register for eSubscription.

In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2725). For assistance, contact FERC at FERCOnlineSupport@ferc.gov, (866) 208-3676 (toll free), or (202) 502-8659 (TTY).

Dated: September 17, 2025.
Debbie-Anne A. Reese,
Secretary.

[FR Doc. 2025-18315 Filed 9-19-25; 8:45 am]

BILLING CODE 6717-01-P